DEPARTMENT OF EDUCATION

List of Correspondence From July 1, 2016, Through March 31, 2018

AGENCY: Office of Special Education and Rehabilitative Services, Department of Education.

ACTION: Notice.

SUMMARY: The Secretary is publishing the following list of correspondence from the U.S. Department of Education (Department) received by individuals during the third and fourth quarters of 2016, all quarters of 2017, and the first quarter of 2018. The correspondence describes the Department's interpretations of the Individuals with Disabilities Education Act (IDEA) or the regulations that implement IDEA. This list and the letters or other documents described in this list, with personally identifiable information redacted, as appropriate, can be found at: www2.ed.gov/policy/speced/guid/idea/index.html.

FOR FURTHER INFORMATION CONTACT: Jessica Spataro, U.S. Department of Education, 400 Maryland Avenue SW, Room 5111, Potomac Center Plaza, Washington, DC 20202-2500. Telephone: (202) 245-6493.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro at (202) 245-6493.

SUPPLEMENTARY INFORMATION: The following list identifies correspondence for seven calendar quarters, July 1, 2016, through March 31, 2018. Under section 607(f) of IDEA, the Secretary is required to publish this list quarterly in the Federal Register. The list includes those letters that contain interpretations of the requirements of IDEA and its implementing regulations, as well as letters and other documents that the Department believes will assist the public in understanding the requirements of the law. The list identifies the date and topic of each letter and provides summary information, as appropriate. To protect the privacy interests of the individual or individuals involved, personally identifiable information has been redacted, as appropriate.

2016—Third Quarter Letters

Part B—Assistance for Education of All Children With Disabilities

Section 612—State Eligibility

Topic Addressed: Free Appropriate Public Education

○ Dear Colleague Letter dated August 1, 2016, clarifying that behavioral supports are an essential element to receiving a free appropriate public education.

○ Dear Colleague Letter dated August 5, 2016, clarifying the requirements of IDEA in the context of virtual schools.

Section 613—Local Educational Agency Eligibility

Topic Addressed: Use of Federal Funds

○ Letter dated August 23, 2016, to Maryland Special Needs Advocacy Project Coordinator, Martha Goodman, regarding the calculation of the proportionate share of IDEA funds that must be used by a local educational agency (LEA) to provide special education and related services to parentally placed private school children with disabilities.

Section 615—Procedural Safeguards

Topic Addressed: Impartial Due Process Hearings

○ Letter dated August 4, 2016, to Maryland attorney Michael Eig, regarding a parent's right to open a due process hearing to the public.

Part C—Infants and Toddlers With Disabilities

Section 635—Requirements for Statewide System

Topic Addressed: Implementation of a Statewide System

○ Letter dated August 18, 2016, to New York attorney Regina Skyer, regarding multidisciplinary evaluations, eligibility, and screening procedures under Part C of IDEA.

Other Letters That Do Not Interpret Idea But May Be of Interest to Readers

○ Dear Colleague Letter dated July 26, 2016, from the Office of Civil Rights (OCR) clarifying the obligation of schools to provide students with attention-deficit/hyperactivity disorder with equal educational opportunity under section 504 of the Rehabilitation Act of 1973.

2016—Fourth Quarter Letters

Part B—Assistance for Education of All Children With Disabilities

Section 612—State Eligibility

Topic Addressed: State Advisory Panel

○ Letter dated December 27, 2016, to Technical Assistance for Excellence in Special Education, Executive Director John Copenhaver, clarifying requirements regarding the State Advisory Panel.

Topic Addressed: Children in Private Schools

○ Letter dated December 27, 2016, to Massachusetts special education activist Ellen Chambers, clarifying the requirements for when an LEA must provide transportation services to parentally placed private school children with disabilities.

Section 613—Local Educational Agency Eligibility

Topic Addressed: Charter Schools

○ Dear Colleague Letter dated December 28, 2016, issued by OSERS and OCR providing guidance in the form of Frequently Asked Questions about the rights of students with disabilities in public charter schools.

Section 615—Procedural Safeguards

Topic Addressed: Independent Educational Evaluation

○ Letter dated October 22, 2016, to Texas law clerk Jennifer Carroll, clarifying the requirements regarding when a school district must provide an independent educational evaluation.

Topic Addressed: Notice to Parents

○ Letter dated December 27, 2016, to Florida attorney Rochelle Marcus, regarding whether IDEA obligates a school district to correspond with a parent's attorney.

2017—First Quarter Letters

Part B—Assistance for Education of All Children With Disabilities

Section 612—State Eligibility

Topic Addressed: Least Restrictive Environment

○ Dear Colleague Letter dated January 9, 2017, reaffirming the Department's commitment to inclusive preschool education programs for children with disabilities and reiterating that the least restrictive environment requirements of IDEA apply to the placement of preschool children with disabilities.

Topic Addressed: Confidentiality of Education Records

○ Letter dated February 27, 2017, to Sonoran Schools Inc., Chief Compliance Officer, Patrick Zacchini, clarifying when and how parents must be notified before records containing personally identifiable information are destroyed under Part B of IDEA.

Section 614—Evaluations, Eligibility Determinations, Individualized Education Programs, and Educational Placements

Topic Addressed: Individualized Education Programs

○ Letter dated January 18, 2017, to Wisconsin Disability Policy Partnership, Public Policy Director, Lisa Pugh, regarding progress reporting on postsecondary goals for transition-aged children with disabilities.

○ Letter dated February 27, 2017, to [personally identifiable information redacted], regarding the annual update of postsecondary goals and transition services.

Section 615—Procedural Safeguards

Topic Addressed: Appeal

○ Letter dated January 2, 2017, to [personally identifiable information redacted], regarding whether a parent may file a due process complaint against a State educational agency.

Topic Addressed: Impartial Due Process Hearings

○ Letter dated February 27, 2017, to [personally identifiable information redacted], regarding record retention requirements, specifically the applicable Federal time period for which an SEA must retain, and make available to the general public, findings and decisions issued in due process hearings and State-level reviews conducted pursuant to IDEA.

2017—Second Quarter—No Letters

2017—Third Quarter Letter

Part B—Assistance for Education of All Children With Disabilities

Section 612—State Eligibility

Topic Addressed: Children in Private Schools

○ Letter dated September 8, 2017, to Archdiocese of Washington, Director for Government and Grant Programs, Brian Radziwill, clarifying certain provisions in Part B of IDEA that pertain to children with disabilities enrolled by their parents in private schools.

2017—Fourth Quarter—No Letters

2018—First Quarter—No Letters

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 2, 2018.
Johnny W. Collett,
Assistant Secretary for Special Education and Rehabilitative Services.

[FR Doc. 2018-14532 Filed 7-5-18; 8:45 am]

BILLING CODE 4000-01-P